DEPARTMENT OF TRANSPORTATION

Federal Aviation Administration

High Density Airports; Notice of Reagan National Airport Lottery Allocation Procedures

AGENCY: Federal Aviation Administration.

ACTION: Notice of lottery and allocation procedures for slots at Washington Reagan National Airport.

SUMMARY: This notice announces a lottery for the allocation of limited air carrier and commuter slots in accordance with Title 14 of the Code of Federal Regulations § 93.225, Lottery of available slots.

DATES: July 9, 2003.

date/location of lottery: The lottery will be held in the Federal Aviation Administration (FAA) Auditorium, 3rd floor, 800 Independence Avenue, SW., Washington, DC 20591 on July 31, 2003, beginning at 12:30 p.m. Carriers that wish to participate in the lottery must notify, in writing, the FAA Slot Administration Office, Attention: AGC-220, 800 Independence Avenue, SW., Washington, DC 20591 or by facsimile to 202-267-7277. Notification must be received no later than 5 p.m. EDT on July 16, 2003.

FOR FURTHER INFORMATION CONTACT: Lorelei Peter, Operations and Air Traffic Law Branch, Regulations Division, Office of the Chief Counsel, Federal Aviation Administration, 800 Independence Avenue, SW., Washington, DC 20591; telephone number 202-267-3134.

SUPPLEMENTARY INFORMATION:

Background

The High Density Traffic Airports Rule, or “High Density Rule,” 14 CFR part 93, subpart K, was promulgated in 1968 to reduce delays at five congested airports; John F. Kennedy International Airport (JFK), LaGuardia, O'Hare International Airport (O'Hare), Ronald Reagan Washington National Airport (Reagan National) and Newark International Airport (33 FR 17896; December 3, 1968). The regulation limits the number of instrument flight rule (IFR) operations at each airport, during certain hours of the day. It provides for the allocation to carriers of operational authority, in the form of a “slot” for each IFR takeoff or landing during a specific 30- or 60-minute period. The restrictions at Newark were lifted in the early 1970s. The restrictions at O'Hare were lifted in July 2002.

The allocation of permanent slots, not required for Essential Air Service, during peak hours is made in accordance with the lottery provisions in 14 CFR 93.225. The FAA will follow the procedures set forth in 14 CFR 93.225 for this lottery. Title 49 of the United States Code (U.S.C.) 41714 (h)(5)(A) amends the definition of a limited incumbent carrier, as set forth in 14 CFR 93.213(a)(5), from a carrier with fewer than 12 slots to a carrier with fewer than 20 slots. For the purposes of this subpart and the lottery, the definition of a limited incumbent carrier, as amended above, includes slots and slot exemptions issued by the Department of Transportation under 49 U.S.C. 41714 et seq. The slots to be reallocated by this lottery do not represent new airport capacity and are slots that have previously been allocated to carriers but voluntarily returned to the FAA, withdrawn by the FAA for nonuse under the provisions of 14 CFR 93.227, or allocated on a temporary basis and recalled by the FAA for permanent allocation by lottery. A total of nine daily commuter slots in the 2100 hour and six daily air carrier slots in the 2100 hour are currently available for allocation by this lottery. A final list of slots available for selection will be announced at the lottery before eligible carriers make any selections.

The FAA notes that two additional 2100 hour air carrier slots remain allocated to Midwest Airlines (formerly Midwest Express) on a temporary basis and will not be included in this lottery. In Order No. 99-11-4, the Office of the Secretary of Transportation granted Midwest an exemption under the authority of 49 U.S.C. 41714(d) to utilize those 2100 hour slots for a mid-day Milwaukee roundtrip in the 1400 and 1500 hours. Unlike the other carriers for which temporarily allocated slots in the 2100 hour have been withdrawn for permanent allocation by this lottery, Midwest would be uniquely disadvantaged if its two temporarily allocated slots were withdrawn. Other carriers are operating these slots in the later portion of the 2100 hour and could move their operation to the 2200 hour where there are slots available for permanent allocation (pursuant to 14 CFR 93.226(a)(3)), which would not significantly alter their DCA operations or necessarily force a reduction in service. Midwest, alternatively, has retimed these slots to early time periods during the day, which precludes simply adjusting the timing of these operations and could in fact result in the cancellation of this service. Also, Midwest is a limited incumbent carrier at the airport, which specifically is a class of carrier for which the provisions of the lottery were intended to benefit. Consequently, we find that these special circumstances warrant not withdrawing the two temporarily allocated slots in the 2100 hour from Midwest at this time.

The FAA has notified the carriers that currently have temporarily allocated weekday slots at DCA that they must return the slots to the FAA by September 30, 2003. This means that some of the slots included in the lottery are currently temporarily allocated and may not be available until after that date. However, some slots are available for allocation immediately following the lottery and carriers may return other slots prior to September 30. The FAA will work to accommodate carriers that want to start service with available slots before October 1.

Issued on July 1, 2003 in Washington, DC.
Andrew S. Steinberg,
Chief Counsel.

[FR Doc. 03-17254 Filed 7-8-03; 8:45 am]

BILLING CODE 4910-13-M